DEPARTMENT OF ENERGY

Inventions and Innovation Funding Opportunity Announcement

AGENCY: Golden Field Office, Department of Energy.

ACTION: Notice of Issuance of Inventions and Innovation (I&I) funding opportunity announcement.

SUMMARY: The U.S. Department of Energy (DOE), Office of Energy Efficiency and Renewable Energy (EERE) is announcing its intention to fund a competitive grant program entitled the Inventions and Innovation (I&I) Program. The goals of the I&I Program are to improve energy efficiency through the promotion of innovative ideas and inventions that have a significant, potential energy impact and a potential, future commercial market. Innovative technologies that fit within the scope of the EERE mission and programs are of particular interest to I&I. EERE offices include: (1) Biomass Program; (2) Building Technologies Program; (3) Distributed Energy & Electric Reliability Program; (4) FreedomCAR & Vehicle Technologies Program; (5) Geothermal Technologies Program; (6) Hydrogen, Fuel Cells, & Infrastructure Technologies Program; (7) Industrial Technologies Program; (8) Solar Energy Technology Program; (9) Weatherization & Intergovernmental Program; and (10) Wind & Hydropower Technologies Program.

DOE will provide financial assistance of up to $50,000 for Category 1 projects, up to $250,000 for Category 2 projects, and up to $500,000 for up to one Category 3 project. Category 1, 2, and 3 projects fall within the “conceptual,” “developmental,” and “demonstration” stages of development, respectively. Grant awards cover a project period of up to one year for Category 1, two years for Category 2, and three years for Category 3.

Up to $1.6 million dollars in funding is available for Fiscal Year 2004. DOE reserves the right to fund in whole or in part any, all, or none of the proposals submitted in response to this notice.

DATES: The Funding Opportunity Announcement is expected to be issued on or about March 5, 2004. The pre-application period is expected to open on or about March 5, 2004 and close on or about March 25, 2004. The full application period is expected to open on or about May 25, 2004 and close on or about June 21, 2004.

ADDRESSES: To obtain a copy of the Announcement, interested parties should access the DOE Golden Field Office Home Page at http://www.go.doe.gov/funding.html, click on the word “access.” The link will open the Industry Interactive Procurement System (IIPS) Web site and provide instructions on using IIPS. The Announcement can also be obtained directly through IIPS at http://e-center.doe.gov by browsing opportunities by Contract Activity, for those Announcements issued by the Golden Field Office. DOE will not issue paper copies of the Announcement.

IIPS provides the medium for disseminating Announcements, receiving financial assistance applications, and evaluating the applications in a paperless environment. The application may be submitted in IIPS by the applicant or a designated representative that receives authorization from the applicant; however, the application documentation must reflect the name and title of the representative authorized to enter the applicant into a legally binding contract or agreement. The applicant or the designated representative must first register in IIPS, entering their first name and last name, and then entering the company name/address of the applicant. For questions regarding the operation of IIPS, contact the IIPS Help Desk at IIPS_HelpDesk@e-center.doe.gov or at (800) 683-0751.

FOR FURTHER INFORMATION CONTACT: Melissa Wise, DOE Golden Field Office, 1617 Cole Boulevard, Golden, CO 80401-3393 or via facsimile to Melissa Wise at (303) 275-4788 or electronically to goii@go.doe.gov.

SUPPLEMENTARY INFORMATION: Eligibility for this assistance is restricted to applications from the following: (1) Individuals that are either native-born or naturalized U.S. citizens or (2) small businesses (as defined by the Small Business Administration) that are incorporated and operating in the U.S. and that conduct at least 50% of the effort. National Laboratories are not eligible to submit applications for grant funding but may perform part of the work on a Category 3 project only. National Laboratories may not perform more than 49% of the work and payment to the labs must come from the applicants' portion of cost share, not from federal funds.

Individual inventors and very small businesses (15 or fewer employees) are especially encouraged to apply for funding.

To be considered for a Category 2 award, a bench-scale model and/or other preliminary investigations must be complete. Only Category 1 and 2 projects that conclude in a technological stage of development that meets the requirements of a Category 3, “Production-Scale Commercial Demonstration” project will be considered. The goal of the Category 3 grant is the completion of a full production-scale commercial demonstration of a completed Category 1 or 2 I&I project within the United States. To be eligible for this grant, it must be a prior Category 1 or 2 award recipient and all research and development activities must already be completed with successful test results. DOE anticipates the Category 3 award may cover a project period of up to three years. The demonstration must be conducted long enough to gather sufficient data to determine the energy and economic impacts. At the end of the project, the technology or process must be demonstrated and ready for commercialization.

More than one application may be submitted by an applicant for different innovations. However, funding will be limited to one award per applicant, per cycle. Also more than one organization may be involved in an application as long as the lead organization and lead financial assistance management responsibilities are defined. The Catalog of Federal Domestic Assistance number assigned to the I&I Program is 81.036. Cost sharing by applicants and/or cooperating participants is not required for Category 1 or 2 awards but is highly encouraged. Category 3 projects carry a 50% cost share requirement. In addition to direct financial contributions, cost sharing can include beneficial services or items such as manpower, equipment, consultants, and computer time that are allowable in accordance with applicable cost principles.

Issued in Golden, Colorado, on March 5, 2004.
Jerry L. Zimmer,
Director, Office of Acquisition and Financial Assistance.

[FR Doc. 04-5752 Filed 3-12-04; 8:45 am]

BILLING CODE 6450-01-P